DEPARTMENT OF COMMERCE

National Oceanic and Atmospheric Administration

[I.D. 042605H]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: NMFS announces that the Assistant Regional Administrator for Sustainable Fisheries, Northeast Region, NMFS (Assistant Regional Administrator), has determined that an application for revised Exempted Fishing Permits (EFPs) contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue revised EFPs in response to an application submitted by the Cape Cod Commercial Hook Fisherman's Association (CCCHFA), in collaboration with Maine Division of Marine Resources (MEDMR), and Research, Environmental and Management Support (REMSA).

Previous public comment was solicited on these EFPs, which would allow up to 20 commercial vessels to conduct an experimental demersal longline fishery for haddock in Georges Bank (GB) Closed Area (CA) II and portions of the Eastern U.S./Canada Area. This action would revise these EFPs by including an exemption from the May GB Seasonal Closure Area. This fishery would take place at various times from May 2005 through February 2006. The purpose of the proposed study is to determine if hook-and-line gear could be used to target haddock with minimal bycatch of cod in order to establish potential future Special Access Programs (SAPs) in these areas as allowed under Amendment 13 to the FMP.

DATES: Comments on this action must be received (see ADDRESSES) on or before May 17, 2005.

ADDRESSES: Written comments should be sent to Patricia A. Kurkul, Regional Administrator, NMFS, NE Regional Office, 1 Blackburn Drive, Gloucester, MA 01930. Mark the outside of the envelope “Comments on Haddock CA II SAP EFP Proposal.” Comments may also be sent via fax to 978-281-9135, or submitted via e-mail to the following address: da735r@noaa.gov. Copies of the Environmental Assessment (EA) are available from the NE Regional Office at the same address.

FOR FURTHER INFORMATION CONTACT: Karen Tasker, Fishery Management Specialist, phone: 978-281-9273, fax: 978-281-9135, e-mail: karen.tasker@noaa.gov.

SUPPLEMENTARY INFORMATION: The CCCHFA, in collaboration with the MEDMR and REMSA, submitted a request for an EFP on November 16, 2004. Public notification of the proposal and request for comments was published in the Federal Register on March 2, 2005 (70 FR 10074).

The proposed EFP would enable researchers to conduct a study targeting GB haddock within GB CA II and a portion of the Eastern U.S./Canada Area outside of CA II. The purpose of the proposed study is to determine if demersal longline gear could be used to target GB haddock with minimal bycatch of GB cod. This proposal expands upon a study that began on June 10, 2004, and ended on January 31, 2005, that examined the feasibility of using demersal longline gear to target haddock with minimal cod bycatch in several closure areas in the Gulf of Maine (GOM) and GB.

The CCCHFA's November 17, 2004, proposal requests authorization for a total of 160 trips by 20 commercial longline vessels to fish for and possess haddock in the Eastern U.S./Canada Area, including CA II, during various times from May 2005 through February 2006. In order to accomplish this work, the CCCHFA requested an exemption from the CA II restrictions on the haddock trip limit for all participating vessels, and an exemption from the 3,600-hook limit for participating non-Sector vessels in their initial application. At a later date, it also requested an exemption from the GB Seasonal Closure Area restrictions for participating non-Sector vessels. The notice and request for comments published on March 2, 2005, addressed the exemptions requested in the initial proposal but did not address the exemption to the GB Seasonal Closure Area. This proposed revision would exempt participating non-Sector vessels from the GB Seasonal Closure Area during the month of May 2005.

The applicant may request minor modifications and extensions to the EFP throughout the year. EFP modifications and extensions may be granted without further notice if they are deemed essential to facilitate completion of the proposed research and result in only a minimal change in the scope or impact of the initially approved EFP request. The EFP could be made effective following publication of the EFP application in the Federal Register, with a 15-day public comment period.

Authority: 16 U.S.C. 1801 et seq.

Dated: April 27, 2005.
Anne M. Lange
Acting Director, Office of Sustainable Fisheries, National Marine Fisheries Service.

[FR Doc. 05-8697 Filed 4-29-05; 8:45 am]

BILLING CODE 3510-22-S